DEPARTMENT OF HEALTH AND HUMAN SERVICES

National Institutes of Health

National Heart, Lung, and Blood Institute; Amended Notice of Meeting

Notice is hereby given of a change in the meeting of the SINGLE-SITE AND PILOT CLINICAL TRIALS REVIEW COMMITTEE, June 24, 2020, 08:00 a.m. to June 25, 2020, 05:00 p.m., National Institute of Health (NIH), Rockledge 1, 6705 Rockledge Drive, Bethesda, MD 20892 which was published in the Federal Register on May 18, 2020, 85 FR 29732. The NHLBI Initial/Integrated Review Group meeting is being amended to change the meeting start time to 9:00 a.m. and end time to 3:00 p.m. This two-day meeting to be held on June 24-25, 2020 will be a teleconference meeting. The meeting is closed to the public.

Dated: May 19, 2020.
Ronald J. Livingston, Jr.,
Program Analyst, Office of Federal Advisory Committee Policy.

[FR Doc. 2020-11125 Filed 5-21-20; 8:45 am]

BILLING CODE 4140-01-P